DEPARTMENT OF HOMELAND SECURITY

Federal Emergency Management Agency

[Docket ID FEMA-2013-0002; Internal Agency Docket No. FEMA-B-1327]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
California:
Santa Barbara | City of Lompoc, (13-09-0272P) | The Honorable John Linn, Mayor, City of Lompoc, 100 Civic Center Plaza, Lompoc, CA 93436 | 100 Civic Center Plaza, Lompoc, CA 93436 | http://www.r9map.org/Docs/13-09-0272P-060334-102IAC.pdf | July 31, 2013 | 060334
Idaho:
Ada | Unincorporated areas of Ada County, (13-10-0375P) | The Honorable Dave Case, Chairman, Ada County Board of Commissioners, 200 West Front Street, 3rd Floor, Boise, ID 83702 | 200 West Front Street, Boise, ID 83702 | http://www.starr-team.com/starr/LOMR/Pages/RegionX.aspx | August 15, 2013 | 160001
Blaine | Unincorporated areas of Blaine County, (13-10-0554P) | The Honorable Angenie McCleary, Chairman, Blaine County Board of Commissioners, 206 1st Avenue South, Suite 300, Hailey, ID 83333 | Blaine County Planning and Zoning, 219 1st Avenue South, Suite 208, Hailey, ID 83333 | http://www.starr-team.com/starr/LOMR/Pages/RegionX.aspx | August 15, 2013 | 165167
Illinois:
Peoria | City of Peoria, (12-05-5395P) | The Honorable Jim Ardis, Mayor, City of Peoria, 419 Fulton Street, Room 207, Peoria, IL 61602 | Peoria City Hall, Public Works Department, 419 Fulton Street, Room 307, Peoria, IL 61602 | http://www.starr-team.com/starr/LOMR/Pages/RegionV.aspx | August 9, 2013 | 170536
McLean | Town of Normal, (11-05-4448P) | The Honorable Chris C. Koos, Mayor, Town of Normal, 100 East Phoenix Avenue, Normal, IL 61761 | City of Public Works Department, 211 South Linden Street, Normal, IL 61761 | http://www.starr-team.com/starr/LOMR/Pages/RegionV.aspx | August 16, 2013 | 170502
Dupage | Village of Glen Ellyn, (13-05-2368P) | The Honorable Mark Pfefferman, Village President, Village of Glen Ellyn, 535 Duane Street, Glen Ellyn, IL 60137 | Village Hall, 535 Duane Street, Glen Ellyn, IL 60137 | http://www.starr-team.com/starr/LOMR/Pages/RegionV.aspx | August 2, 2013 | 170207
Will | Village of Romeoville, (12-05-1759P) | The Honorable John D. Noak, Mayor, Village of Romeoville, 1050 West Romeo Road, Romeoville, IL 60446 | Village Hall, 1050 West Romeo Road, Romeoville, IL 60446 | http://www.starr-team.com/starr/LOMR/Pages/RegionV.aspx | July 19, 2013 | 170711
Will | Unincorporated areas of Will County, (12-05-1759P) | The Honorable Lawrence M. Walsh, County Executive, Will County, 302 North Chicago Street, Joliet, IL 60432 | Will County Land Use, 58 East Clinton Street, Suite 500, Joliet, IL 60432 | http://www.starr-team.com/starr/LOMR/Pages/RegionV.aspx | July 19, 2013 | 170695
Kansas:
Sedgwick | Unincorporated areas of Sedgwick County, (12-07-0465P) | The Honorable Tim R. Norton, Chairman, Sedgwick County Board of Commissioners, 525 North Main Street, Suite 320, Wichita, KS 67203 | 144 South Seneca Street, Wichita, KS 67213 | http://www.starr-team.com/starr/LOMR/Pages/RegionVII.aspx | March 12, 2013 | 200321
Sedgwick | City of Wichita, (12-07-0465P) | The Honorable Carl Brewer, Mayor, City of Wichita, 455 North Main Street, Wichita, KS 67202 | 455 North Main Street, 8th Floor, Wichita, KS 67202 | http://www.starr-team.com/starr/LOMR/Pages/RegionVII.aspx | March 12, 2013 | 200328
Sedgwick | City of Maize, (12-07-0465P) | The Honorable Clair Donnelly, Mayor, City of Maize, 10100 West Grady Avenue, Maize, KS 67101 | 10100 West Grady Avenue, Maize, KS 67101 | http://www.starr-team.com/starr/LOMR/Pages/RegionVII.aspx | March 12, 2013 | 200520
Michigan:
Macomb | Township of Macomb, (12-05-7428P) | The Honorable Janet I. Dunn, Supervisor, Macomb Township, 54111 Broughton Road, Macomb, MI 48042 | 54111 Broughton Road, Macomb, MI 48042 | http://www.starr-team.com/starr/LOMR/Pages/RegionV.aspx | August 16, 2013 | 260445
Nebraska:
Colfax | Village of Leigh, (12-07-2322P) | The Honorable Larry Fuhr, Chairman, Leigh Village Board, P.O. Box 277, Leigh, NE 68643 | 109 Short Street, Leigh, NE 68643 | http://www.starr-team.com/starr/LOMR/Pages/RegionVII.aspx | July 25, 2013 | 310386
Colfax | Unincorporated areas of Colfax County, (12-07-2322P) | The Honorable Jerry Heard, Chairman, Colfax County Board of Commissioners, P.O. Box 435, Schuyler, NE 68641 | 411 East 11 th Street, Schuyler, NE 68661 | http://www.starr-team.com/starr/LOMR/Pages/RegionVII.aspx | July 25, 2013 | 310426
Platte | Unincorporated areas of Platte County, (12-07-2322P) | The Honorable Jerry Micek, Chairman, Platte County Board of Commissioners, 2610 14th Avenue, Columbus, NE 68601 | 2610 14 th Street, Columbus, NE 68601 | http://www.starr-team.com/starr/LOMR/Pages/RegionVII.aspx | July 25, 2013 | 310467
Minnesota:
Steele | City of Owatonna, (12-05-7769P) | The Honorable Thomas A. Kuntz, Mayor, City of Owatonna, 540 West Hills Circle, Owatonna, MN 55060 | 540 West Hills Circle, Owatonna, MN 55060 | http://www.starr-team.com/starr/LOMR/Pages/RegionV.aspx | July 26, 2013 | 270463
Olmsted | City of Rochester, (13-05-0422P) | The Honorable Ardell F. Brede, Mayor, City of Rochester, 201 4th Street Southeast, Room 281, Rochester, MN 55904 | 2122 Campus Drive Southeast, Suite 100, Rochester, MN 55904 | http://www.starr-team.com/starr/LOMR/Pages/RegionV.aspx | July 26, 2013 | 275246
Olmsted | Unincorporated areas of Olmsted County, (13-05-0422P) | The Honorable Jim Bier, Chairperson, Olmsted County Board of Commissioners, 151 4th Street Southeast, Rochester, MN 55904 | 2122 Campus Drive Southeast, Suite 100, Rochester, MN 55904 | http://www.starr-team.com/starr/LOMR/Pages/RegionV.aspx | July 26, 2013 | 270626
Missouri:
Pulaski | Unincorporated areas of Pulaski County, (13-07-0592P) | The Honorable Gene Newkirk, Presiding Commissioner, Pulaski County, 301 Historic 66 East, Suite 101, Waynesville, MO 65583 | 301 Historic 66 East, Suite 101, Waynesville, MO 65583 | http://www.starr-team.com/starr/LOMR/Pages/RegionVII.aspx | July 22, 2013 | 290826
Wisconsin:
Chippewa | City of Bloomer, (13-05-0677P) | The Honorable Randy Summerfield, Mayor, City of Bloomer, 1503 Main Street, Bloomer, WI 54724 | 1503 Main Street, Bloomer, WI 54724 | http://www.starr-team.com/starr/LOMR/Pages/RegionV.aspx | August 14, 2013 | 550042
Chippewa | Unincorporated areas of Chippewa County, (13-05-0677P) | The Honorable Paul Michels, Chairman, Chippewa County Board of Supervisors, 711 North Bridge Street, Chippewa Falls, WI 54729 | 711 North Bridge Street Room 9, Chippewa Falls, WI 54729 | http://www.starr-team.com/starr/LOMR/Pages/RegionV.aspx | August 14, 2013 | 555549
Wyoming:
Fremont | Town of Dubois, (13-08-0063P) | The Honorable Twila Blakeman, Mayor, Town of Dubois, 712 Meckem Street, Dubois, WY 82513 | 712 Meckem Street, Dubois, WY 82513 | http://www.bakeraecom.com/index.php/wyoming/fremont-2 | August 9, 2013 | 560018
Fremont | Unincorporated areas of Fremont County, (13-08-0063P) | The Honorable Douglas L. Thompson, Chairman, Fremont County Board of Commissioners, 450 North 2nd Street, Lander, WY 82520 | 450 North 2nd Street, Room 360, Lander, WY 82520 | http://www.bakeraecom.com/index.php/wyoming/fremont-2 | August 9, 2013 | 560080

(Catalog of Federal Domestic Assistance No. 97.022, “Flood Insurance.”)

Dated: May 17, 2013.
Roy E. Wright,
Deputy Associate Administrator for Mitigation, Department of Homeland Security, Federal Emergency Management Agency.

[FR Doc. 2013-13940 Filed 6-11-13; 8:45 am]

BILLING CODE 9110-12-P